GENERAL SERVICES ADMINISTRATION

Notice of Availability Record of Decision for the Update to the Master Plan for the Consolidation of the Food and Drug Administration Headquarters at the Federal Research Center at White Oak in Silver Spring, MD

AGENCY: U.S. General Service Administration (GSA); National Capital Region.

ACTION: Notice; record of decision.

SUMMARY: Pursuant to the requirements of the National Environmental Policy Act of 1969 (NEPA), the Council on Environmental Quality Regulations (40 CFR parts 1500-1508), GSA Order PBS P1095.1F (Environmental considerations in decisionmaking, date October 19, 1999), and the GSA Public Buildings Service NEPA Desk Guide, GSA has signed a Record of Decision (ROD) for the update to the Master Plan to support the consolidation of the Food and Drug Administration (FDA) Headquarters at the Federal Research Center at White Oak in Silver Spring, Maryland. The ROD identifies that Alternative 2: Dispersed Density Action Alternative, as defined in the FDA Headquarters Consolidation Master Plan Update Final Supplemental Environmental Impact Statement (EIS) (GSA, July 2009), is the alternative selected for implementation. The complete ROD can be viewed at: http://www.gsa.gov/ncrnepa.

FOR FURTHER INFORMATION CONTACT: Suzanne Hill, NEPA Lead, General Services Administration, National Capital Region, at (202) 205-5821.

SUPPLEMENTARY INFORMATION: Decision:

It is the decision of the Acting Regional Administrator of GSA, National Capital Region to: Implement Alternative 2: Dispersed Density Action Alternative. This alternative includes the following:

(1) Construction of facilities to accommodate the increase of FDA employees from 7,719 to 8,889;

(2) Construction of a new office building on the northwestern portion of the site;

(3) Relocation of the 21,000-square foot Child Care Center and 25,000-square foot Broadcast Studio;

(4) Construction of a 10,000-square foot fitness center;

(5) Expansion of the CUP by 50,000-square feet and construction of a thermal water storage tank;

(6) Construction of a 300,000 gallon elevated water storage tank for potable water; and

(7) Elimination of the need for an antenna farm because of advances in technology.

Background

In 1997, GSA completed an environmental impact statement that analyzed the impacts from the consolidation of 5,974 FDA employees at the FRC. In 2005, GSA also completed a supplemental environmental impact statement that analyzed the impacts of increasing the number of employees from 5,947 to 7,720 and the impacts of creating a new eastern access point into the FRC. In September 2007, new legislation was enacted that expanded FDA's mandate to support the Prescription Drug User Fee Act (PDUFA) and the Medical Device User Fee and Modernization Act (MDUFMA). In order for FDA to fulfill the legislated mandates, additional employees may be needed, and the new legislation will likely result in an increase of employees at the FRC from 7,720 to 8,889. The increase in the campus population is needed to conduct the complex and comprehensive reviews necessary for new drugs and medical devices.

The purpose of the action is to update the Master Plan for the FDA Campus at FRC to accommodate employee growth from 7,720 to 8,889 within the 130 acres appropriated by Congress for the FDA Campus. Need for the proposed action is to continue to support FDA Headquarters consolidation at FRC and provide the necessary office and laboratory space to support the expanded PDUFA and MDUFMA programs.

The ROD documents the specific components of and rationale for GSA's decision. This decision is based on analyses contained in the Draft Supplemental EIS issued March 2009; the Final Supplemental EIS issued in July 2009; the comments of Federal, state, and local agencies, members of the public, and elected officials; and other information in the administrative record.

Issued September 2, 2009 by Sharon J. Banks, Acting Regional Administrator, General Services Administration, National Capital Region.
February 16, 2010.
Patricia T. Ralston,
Director, Portfolio Management, Public Buildings Service, National Capital Region.

[FR Doc. 2010-4120 Filed 2-26-10; 8:45 am]

BILLING CODE 6820-23-P